DEPARTMENT OF HEALTH AND HUMAN SERVICES

Centers for Medicare & Medicaid Services

42 CFR Part 418

[CMS-1286-CN]

RIN 0938-AN89

Medicare Program; Hospice Wage Index for Fiscal Year 2006

AGENCY: Centers for Medicare & Medicaid Services (CMS), HHS.

ACTION: Final rule, correction.

SUMMARY: This document corrects technical errors that appeared in the final rule published in the Federal Register on August 4, 2005, entitled “Hospice Wage Index for Fiscal Year 2006.” This document is effective on October 1, 2005, the effective date of the provisions of the final rule.

EFFECTIVE DATE: This notice is effective on October 1, 2005.

FOR FURTHER INFORMATION CONTACT: Terri Deutsch, (410) 786-9462.

SUPPLEMENTARY INFORMATION:

I. Background

Federal Register Doc. 05-15290 of August 4, 2005 (70 FR 45130), entitled “Hospice Wage Index for Fiscal Year 2006,” includes errors that are identified and corrected in the “Correction of Errors” section below. The errors in this correcting notice are effective as if they had been included in the document published on August 4, 2005. Accordingly, the corrections are effective on October 1, 2005, the effective date of the provisions of the August 4, 2005 final rule.

II. Summary of the Corrections to the August 4, 2005 Final Rule

In the August 4, 2005 final rule, on pages 45146 through 45167, we published an Addendum. In Table A of the addendum, we published the updated urban and rural wage index values for hospices utilizing the Core-Based Statistical Areas (CBSA) designations. To ensure that hospice providers were able to identify their current wage index, Table A contains the CBSA code, CBSA wage index, CBSA county name, and the current MSA designation. There are typographical errors in the wage indexes listed in the table that were as a result of formatting the columns. In addition, in several sections throughout the table (that is, for the CBSA county names located in the urban areas of Gainesville, FL; Newark Union, NJ-PA; Waterloo-Cedar Falls, LA; and Wilmington, DE-MD-NJ), we inadvertently omitted the asterisk that corresponds to the footnotes that appear at the end of the table.

This correction notice is consistent with the published hospice wage index values that will be used to make payment as of October 1, 2005. In section III of this notice, we provide a description of the errors and the changes being made to correct the errors. Thus, for clarity, we will republish only the section of the table that contains errors.

III. Correction of Errors

In Federal Register Doc. 05-15290 of August 4, 2005 (70 FR 45130), we are making the following corrections to Table A—Hospice Wage Index for Urban Areas by CBSA:

§ 418.304 [Corrected]

1. On page 45146, in the third column, in lines 15 and 16, for CBSA code 10420, indent the CBSA county name for “Portage, OH” and “Summit, OH” to follow the format of the table.

The CBSA code for 10420 should read as follows:

CBSA code | Wage Index ¹ | Urban area (constituent counties or county equivalents) ² | MSA code
10420 | 0.9604 | Akron, OH Portage, OH Summit, OH | 0080

2. On page 45150, in the third column, in lines 25 through 27, for CBSA code 17420, move the CBSA county name for “Cleveland, TN” to line-up with the column and indent the CBSA county names for “Bradley, TN” and “Polk, TN” to follow the format of the table.

The CBSA code for 17420 should read as follows:

CBSA Code | Wage Index ¹ | Urban area (constituent counties or county equivalents) ² | MSA code
17420 | 0.8337 | Cleveland, TN Bradley, TN Polk, TN | 44

3. On page 45151—

A. In the second column, in the 12th entry, for CBSA code 19340, move the wage index value “0.9076” from the CBSA county name Rock Island, IL* to “Mercer, IL*.”

B. In the second column, in the 15th entry for CBSA code 19380, move the wage index value “0.9579” from the CBSA county name Miami, OH* to “Prebele, OH*.”

C. In the third column, in the 14th line from the bottom, for CBSA code 19780, remove the figure from in front of the word “Madison.” In addition, indent the CBSA county name for “Madison, IA*,” to follow the format of the table.

The table for CBSA codes 19340, 19380, and 19780 should read as follows:

CBSA code | Wage index ¹ | Urban area (constituents counties or country equivalents) ² | MSA code
19340 |  | Davenport-Moline-Rock Island, IA-IL
| 0.9305 | Henry, IL* | 1960
|  | Rock Island, IL* | 1960
|  | Scott, IA* | 1960
| 0.9076 | Mercer, IL* | 14

* * * * *

CBSA code | Wage index ¹ | Urban area (constitutent counties or county equivalents) ² | MSA code
19380 |  | Dayton, OH. |
| 0.9829 | Greene, OH* | 2000
|  | Miami, OH* | 2000
|  | Montgomery, OH* | 2000
| 0.9579 | Preble, OH* | 36

* * * * *

CBSA code | Wage index ¹ | Urban area (constitutent counties or county equivalents) ² | MSA code
19780 |  | Des Moines, IA*
| 0.9828 | Dallas, IA* | 2120
|  | Polk, IA* | 2120
|  | Warren, IA* | 2120
| 0.9449 | Guthrie, IA* | 16
|  | Madison, IA* | 16

4. On page 45152, in the third column—

A. In line 14, for the CBSA code 20764, format the CBSA county name for “Ocean, NJ*” to line-up with the CBSA county name “Monmouth, NJ*.”

B. In the 10th line from the bottom, for CBSA code 22500, remove the asterisk from the CBSA county name for “Florence, SC.”

C. In the 8th and 9th lines from the bottom, for CBSA code 22500, add an asterisk to the CBSA county name for “Florence, SC” and indent the CBSA county names for “Darlington, SC* and Florence, SC” to follow the format of the table.

The table for CBSA code 20764 and 22500 should read as follows:

CBSA code | Wage index ¹ | Urban area (constituent counties or county equivalents) ² | MSA code
20764 |  | Edison, NJ
| 1.1930 | Middlesex, NJ* | 5015
|  | Somerset, NJ* | 5015
| 1.1680 | Monmouth, NJ* | 5190
|  | Ocean, NJ* | 5190

* * * * *

CBSA code | Wage index ¹ | Urban area (constituent counties or county equivalents) ² | MSA code
22500 |  | Florence, SC
| 0.9267 | Darlington, SC* | 42
| 0.9436 | Florence, SC* | 2655

5. On page 45153, in the third column, for CBSA code 23540, add an asterisk to the CBSA county name for “Alachua, FL” and “Gilchrist, FL.”

The table for CBSA code 23540 should read as follows:

CBSA code | Wage index ¹ | Urban area (constituent counties or county equivalents) ² | MSA code
23540 |  | Gainesville, FL
| 0.9642 | Alachua, FL* | 2900
| 1.0033 | Gilchrist, FL* | 10

6. On page 45154, in the third column, in the 16th line from the bottom, for CBSA code 26580, indent the CBSA county name for “Boyd, KY” to follow the format of the table.

The table for CBSA code 26580 should read as follows:

CBSA code | Wage index ¹ | Urban area (constituent counties or county equivalents) ² | MSA code
26580 | 1.0144 | Huntington-Ashland, WV-KY-OH Boyd, KY. Cabell, WV. Greenup, KY. Lawrence, OH. Wayne, WV. | 3400

7. On page 45159, in the third column, in lines 19 through 24, for CBSA code 35084, add an asterisk to the CBSA county name for “Pike, PA”, “Essex, NJ,” “Morris, NJ,” “Sussex, NJ,” “Union, NJ,” and “Hunterdon, NJ.”

The table for CBSA code 35084 should read as follows:

CBSA code | Wage index ¹ | Urban area (constituent counties or county equivalents) ² | MSA code
35084 |  | Newark-Union, NJ-PA
| 1.2122 | Pike, PA* | 5660
| 1.2363 | Essex, NJ* | 5640
|  | Morris, NJ* | 5640
|  | Sussex, NJ* | 5640
|  | Union, NJ* | 5640
| 1.2223 | Hunterdon, NJ* | 5015

8. On page 45160—

A. In the first column, in the first entry from the bottom, for CBSA code 1.0183, remove the CBSA code “1.0183” and add in its place the CBSA code “38540.”

B. In the second column, in the first entry from the bottom, in the wage index column, add the wage index value “1.0183” to the CBSA county name “Power, ID*.”

The table for CBSA code 38540 should read as follows:

CBSA code | Wage index ¹ | Urban area (constituent counties or county equivalents) ² | MSA code
38540 |  | Pocatello, ID.
| 0.9773 | Bannock, ID* | 6340
| 1.0183 | Power, ID* | 13

9. On page 45166, in the third column, in the 6th through 9th lines from the bottom, for CBSA code 47940, add an asterisk to the CBSA county names for “Black Hawk, IA,” “Bremer, IA”, and “Grundy, IA.”

The table for CBSA code 47940 should read as follows:

CBSA code | Wage index ¹ | Urban area (constituent counties or county equivalents) ² | MSA code
47940 |  | Waterloo-Cedar Falls, IA.
| 0.9157 | Black Hawk, IA * | 8920
| 0.9113 | Bremer, IA * | 16
|  | Grundy, IA * | 16

10. On page 45167, in the third column, in lines 22 through 24, for CBSA code 48864, add an asterisk to the CBSA county names for “Cecil, MD”, New Castle, DE,” and “Salem, NJ.”

The table for CBSA code 48864 should read as follows:

CBSA code | Wage index ¹ | Urban area (constituent counties or county equivalents) ² | MSA code
48864 |  | Wilmington, DE-MD-NJ.
| 1.1757 | Cecil, MD * | 9160
|  | New Castle, DE * | 9160
| 1.1600 | Salem, NJ * | 6160

IV. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporate a statement of the finding and the reasons therefore in the notice.

The revisions contained in this rule, correct formatting and typographical errors in various sections of a table. These corrections are necessary to ensure that the final rule accurately reflects the correct wage index value used to calculate payment to hospices. Since they are not substantive and merely technical, we find that public comments on these revisions are both unnecessary and impracticable. Therefore, we find good cause to waive notice and comment procedures.

In addition, the Administrative Procedure Act (APA) normally requires a 30-day delay in the effective date of a final rule. Since this notice simply makes technical modifications to a final rule that has previously gone through notice-and-comment rulemaking and the corrections are only to formatting errors, we believe good cause also exists under the APA to waive the 30-day delay in the effective date. Thus, this notice is effective October 1, 2005.

(Catalog of Federal Domestic Assistance Program No. 93.773, Medicare—Hospital Insurance; and Program No. 93.774, Medicare—Supplementary Medical Insurance Program)

Dated: September 27, 2005.
Ann C. Agnew,
Executive Secretary to the Department.

[FR Doc. 05-19609 Filed 9-29-05; 8:45 am]

BILLING CODE 4120-01-P